DEPARTMENT OF THE INTERIOR

Bureau of Land Management

[LLHQ220000 L63000000 PH0000 24X; OMB Control No. 1004-0058]

Agency Information Collection Activities; Reporting Provision for Timber Export Determination and Log Scale Disposition

AGENCY: Bureau of Land Management, Interior.

ACTION: Notice of information collection; request for comment.

SUMMARY: In accordance with the Paperwork Reduction Act of 1995, the Bureau of Land Management (BLM) proposes to renew with revision an information collection.

DATES: Interested persons are invited to submit comments on or before May 28, 2024.

ADDRESSES: Send your written comments on this information collection request (ICR) by mail to Darrin King, Information Collection Clearance Officer, U.S. Department of the Interior, Bureau of Land Management, Attention PRA Office, 440 W 200 S #500, Salt Lake City, UT 84101; or by email to BLM_HQ_PRA_Comments@blm.gov. Please reference Office of Management and Budget (OMB) Control Number 1004-0058 in the subject line of your comments. Please note that the electronic submission of comments is recommended.

FOR FURTHER INFORMATION CONTACT: To request additional information about this ICR, contact Chris Schumacher by email at c1schuma@blm.gov, or by telephone at (202) 577-6745. Individuals in the United States who are deaf, deafblind, hard of hearing, or have a speech disability may dial 711 (TTY, TDD, or TeleBraille) to access telecommunications relay services. Individuals outside the United States should use the relay services offered within their country to make international calls to the point-of-contact in the United States. The ICR may also be viewed at http://www.reginfo.gov/public/do/PRAMain.

SUPPLEMENTARY INFORMATION: In accordance with the Paperwork Reduction Act of 1995 (PRA, 44 U.S.C. 3501 et seq.) and 5 CFR 1320.8(d)(1), all information collections require approval under the PRA. The BLM may not conduct or sponsor a collection of information and a response to a request for information is not required unless it displays a current valid OMB control number.

As part of our continuing effort to reduce paperwork and respondent burdens, we invite the public and other Federal agencies to comment on new, proposed, revised and continuing collections of information. This helps the BLM assess impacts of its information collection requirements and minimize the public's reporting burden. It also helps the public understand BLM information collection requirements and ensure requested data are provided in the desired format.

The BLM is especially interested in public comment addressing the following:

(1) whether collection of information is necessary for the proper performance of the functions of the agency, including if the information will have practical utility;

(2) determination of the accuracy of the BLM's estimate of the burden for collection of information, including validity of methodology and assumptions used;

(3) methods to enhance the quality, utility, and clarity of information to be collected; and

(4) how the agency can minimize the burden of information collection on those who respond, including use of appropriate automated, electronic, mechanical or other technological collection techniques or other forms of information technology.

Comments submitted in response to this notice are a matter of public record. The BLM will include or summarize each comment in its request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BLM collects the information from respondents to determine if they are qualified by statute to purchase Federal timber resources originating from public lands managed by the BLM. This OMB control number is currently scheduled to expire December 31, 2024. This request is for OMB to renew this OMB control number for an additional three (3) years.

This request to renew OMB Control Number 1004-0058 will also request to discontinue the use of the Form 5460-17, Substitution Determination, which reduces the estimated annual burden hours from 300 to 200 hours. The BLM determined that the 5460-17 was confusing and had limited applicability without use of sourcing area designations that allow timber export in certain circumstances.

Title of Collection: Reporting Provision for Timber Export Determination and Log Scale Disposition (43 CFR parts 5424 and 5462).

OMB Control Number: 1004-0058.

Form Numbers: 5450-17 and 5460-15.

Type of Review: Extension with revision of a currently approved collection.

Respondents/Affected Public: Purchasers of Federal timber and their affiliates.

Total Estimated Number of Annual Respondents: 200.

Total Estimated Number of Annual Responses: 200.

Estimated Completion Time per Response: 1 hour.

Total Estimated Number of Annual Burden Hours: 200.

Respondent's Obligation: Required to obtain or retain a benefit.

Frequency of Collection: On occasion.

Total Estimated Annual Nonhour Burden Cost: None.

An agency may not conduct or sponsor and, notwithstanding any other provision of law, a person is not required to respond to a collection of information unless it displays a currently valid OMB control number.

The authority for this action is the Paperwork Reduction Act of 1995 (44 U.S.C. 3501 et seq.).

Darrin A. King,
Information Collection Clearance Officer.

[FR Doc. 2024-06403 Filed 3-25-24; 8:45 am]

BILLING CODE 4310-84-P